DEPARTMENT OF ENERGY

Federal Energy Regulatory Commission

[Project No. 2016-073]

City of Tacoma, Washington; Notice Rejecting Request for Rehearing

August 11, 2004.

On June 10, 2004, the Director, Division of Hydropower Administration and Compliance, issued an order approving a public information management plan filed by Tacoma Power pursuant to Article 405 of the license for the Cowlitz River Hydroelectric Project No. 2016.¹ On July 13, 2004, Friends of the Cowlitz and CPR-Fish filed a request for rehearing of that order.

¹ 107 FERC ¶62,225 (2004).

Pursuant to Section 313(a) of the Federal Power Act, 16 U.S.C. 8251(a), a request for rehearing may be filed only by a party (intervenor) to the proceeding. With regard to a licensee's post-licensing compliance filings, the Commission entertains motions to intervene only where the filing entails a material change in the plan of project development or terms of the license; would adversely affect the rights of a property holder in a manner not contemplated by the license; or involves an appeal by an agency or entity specifically given a consultation role by the license article pursuant to which the compliance filing is made.² None of these circumstances was present here,³ and accordingly the Commission did not issue notice of, or entertain non-consulted entities' intervention motions concerning, Tacoma Power's Article 405 compliance filing.⁴ In light of this, the rehearing request filed by Friends of the Cowlitz and CPR-Fish is rejected.

² Kings River Conservation District, 36 FERC ¶61,365 (1986). In addition, intervention in a relicensing proceeding does not carry over into post-licensing proceedings. See Pacific Gas and Electric Company, 40 FERC ¶61,035 (1987).

³ Article 405 gave neither of these entities a consultation role. See 98 FERC ¶61,274 at 62,110 (2002).

⁴ Even if their rehearing requests would have been entertained, Friends of the Cowlitz and CPR-Fish did not move to intervene in this proceeding.

This notice constitutes final agency action. Request for rehearing by the Commission of this rejection notice must be filed within 30 days of the date of issuance of this notice, pursuant to 18 CFR 385.713 (2004).

Magalie R. Salas,
Secretary.

[FR Doc. E4-1837 Filed 8-18-04; 8:45 am]

BILLING CODE 6717-01-P